DEPARTMENT OF DEFENSE

Office of the Secretary

[Transmittal No. 20-10]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 20-10 with attached Policy Justification and Sensitivity of Technology.

Dated: April 21, 2020.
Aaron T. Siegel,
Alternate OSD Federal Register Liaison Officer, Department of Defense.

Transmittal No. 20-10

Notice of Proposed Issuance of Letter of Offer Pursuant to Section 36(b)(1) of the Arms Export Control Act, as amended

(i) Prospective Purchaser: Kingdom of Morocco

(ii) Total Estimated Value:

Major Defense Equipment * | $25 million
Other | $37 million
Total | $62 million

(iii) Description and Quantity or Quantities of Articles or Services under Consideration for Purchase:

Major Defense Equipment (MDE):

Ten (10) AGM-84L Harpoon Block II Air Launched Missiles

Non-MDE:

Also included are containers, spare and repair parts, support and test equipment, publications and technical documentation, personnel training and training equipment, U.S. Government and contractor representatives' technical assistance, engineering and logistics support services, and other related elements of logistics support.

(iv) Military Department: Navy (MO-P-AAL)

(v) Prior Related Cases, if any: MO-D-SAH

(vi) Sales Commission, Fee, etc., Paid, Offered, or Agreed to be Paid: None

(vii) Sensitivity of Technology Contained in the Defense Article or Defense Services Proposed to be Sold: See Attached Annex.

(viii) Date Report Delivered to Congress: April 14, 2020

* As defined in Section 47(6) of the Arms Export Control Act.

POLICY JUSTIFICATION

Morocco—AGM-84L Harpoon Air Launched Block II Missiles

The Government of Morocco has requested to buy ten (10) AGM-84L Harpoon Block II Air Launched missiles. Also included are containers, spare and repair parts, support and test equipment, publications and technical documentation, personnel training and training equipment, U.S. Government and contractor representatives' technical assistance, engineering and logistics support services, and other related elements of logistics support. The total estimated cost is $62 million.

This proposed sale will support the foreign policy and national security of the United States by helping to improve the security of a major non-NATO ally that continues to be an important force for political stability and economic progress in North Africa.

The proposed sale of the missiles and support will increase the Moroccan Air Force's maritime partnership potential and align its capabilities with existing regional baselines. Morocco intends to use the missiles on its F-16, multi-role fighter aircraft to enhance its capabilities in effective defense of critical sea-lanes. Morocco will have no difficulty absorbing these missiles into its armed forces.

The proposed sale of this equipment and services will not alter the basic military balance in the region.

The prime contractor will be The Boeing Company, St. Louis, Missouri. The purchaser typically requests offsets. Any offset agreement will be defined in negotiations between the purchaser and the contractor(s).

Implementation of this proposed sale will require annual trips to Morocco involving U.S. Government and contractor representatives for technical reviews, support, and oversight for approximately five years.

There will be no adverse impact on U.S. defense readiness as a result of this proposed sale.

Transmittal No. 20-10

Notice of Proposed Issuance of Letter of Offer Pursuant to Section 36(b)(1) of the Arms Export Control Act

Annex

Item No. vii

(vii) Sensitivity of Technology:

1. The AGM-84L Harpoon Air Launched Block II missile system is classified CONFIDENTIAL. The Harpoon missile is a non-nuclear tactical weapon system currently in service in the U.S. Navy and in 29 other foreign nations. It provides a day, night, and adverse weather, standoff air-to-surface capability and is an effective Anti-Surface Warfare missile. The AGM-84L incorporates components, software, and technical design information that are considered sensitive. These elements are essential to the ability of the Harpoon missile to selectively engage hostile targets under a wide range of operations, tactical and environmental conditions. The version being sold to Morocco is a Non-Coastal Target Suppression land attack weapon. The following components being conveyed by the proposed sale that are considered sensitive and are classified CONFIDENTIAL include:

a. The Radar Seeker

b. The GPS/INS System

c. Operational Flight Program Software

d. Missile operational characteristics and performance data

2. If a technologically advanced adversary were to obtain knowledge of the specific hardware and software elements, the information could be used to develop countermeasures that might reduce weapon system effectiveness or be used in the development of a system with similar or advanced capabilities.

3. A determination has been made that Morocco can provide substantially the same degree of protection for the sensitive technology being released as the U.S. Government. This sale is necessary in furtherance of the U.S. foreign policy and national security objectives outlined in the Policy Justification.

4. All defense articles and services listed in this transmittal are authorized for release and export to the Government of Morocco.

[FR Doc. 2020-08786 Filed 4-24-20; 8:45 am]

BILLING CODE 5001-06-P